DEPARTMENT OF LABOR

Employment and Training Administration

[TA-W-70,268]

LDS Test and Measurement LLC, Middleton, WI; Notice of Termination of Investigation

Pursuant to Section 221 of the Trade Act of 1974, as amended, an investigation was initiated on May 20, 2009, in response to a petition filed by a company official on behalf of workers of LDS Test and Measurement, LLC, Middleton, Wisconsin.

The petitioner has requested that the petition be withdrawn. Consequently, the investigation has been terminated.

Signed at Washington, DC, this 17th day of June 2009.
Linda G. Poole,
Certifying Officer, Division of Trade Adjustment Assistance.

[FR Doc. E9-15746 Filed 7-2-09; 8:45 am]

BILLING CODE 4510-FN-P